DEPARTMENT OF HEALTH AND HUMAN SERVICES

National Institutes of Health

National Heart, Lung, and Blood Institute; Amended Notice of Meeting

Notice is hereby given of a change in the meeting of the National Heart, Lung, and Blood Institute Special Emphasis Panel, Opportunities for Collaborative Research at the NIH Clinical Center (U01), August 24, 2023, 2:00 p.m. to August 24, 2023, 4:00 p.m., National Institutes of Health, Rockledge I, 6705 Rockledge Drive, Bethesda, MD, 20892 which was published in the Federal Register on July 19, 2023, FR Doc 2023-15228, 88 FRN 46172.

The National Heart, Lung, and Blood Institute Special Emphasis Panel meeting is being amended due to a change of the meeting date and time formats. The meeting will be held on September 8, 2023, from 11:00 a.m. to 1:00 p.m. This meeting will be a video-assisted and closed to the public.

Dated: July 25, 2023.
Melanie J. Pantoja,
Program Analyst, Office of Federal Advisory Committee Policy.

[FR Doc. 2023-16133 Filed 7-28-23; 8:45 am]

BILLING CODE 4140-01-P